DEPARTMENT OF JUSTICE

Drug Enforcement Administration

[OMB Number 1117-0003]

Agency Information Collection Activities: Proposed Collection; Comments Requested: ARCOS Transaction Reporting; DEA Form 333

ACTION: 60-Day notice of information collection under review.

The Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until April 25, 2011. This process is conducted in accordance with 5 CFR 1320.10.

If you have comments, especially on the estimated public burden or associated response time, suggestions, or need a copy of the proposed information collection instrument with instructions or additional information, please contact Mark W. Caverly, Chief, Liaison and Policy Section, Office of Diversion Control, Drug Enforcement Administration, 8701 Morrissette Drive, Springfield, VA 22152; (202) 307-7297.

Written comments concerning this information collection should be sent to the Office of Information and Regulatory Affairs, Office of Management and Budget, Attn: DOJ Desk Officer. The best way to ensure your comments are received is to e-mail them to oira_submission@omb.eop.gov or fax them to 202-395-7285. All comments should reference the 8-digit OMB number for the collection or the title of the collection. If you have questions concerning the collection, please call Mark W. Caverly at (202) 307-7297 or the DOJ Desk Officer at 202-395-3176.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: ARCOS Transaction Reporting—DEA Form 333.

(3) Agency form number, if any, and the applicable component of the Department of Justice sponsoring the collection: Form Number: DEA Form 333. Office of Diversion Control, Drug Enforcement Administration, United States Department of Justice.

(4) Affected public who will be asked or required to respond, as well as a brief abstract:

Primary: Business or other for-profit.

Other: None.

Abstract: Controlled substances Manufacturers and distributors must report acquisition/distribution transactions to DEA to comply with Federal law and international treaty obligations. This information helps to ensure a closed system of distribution for these substances.

(5) An estimate of the total number of respondents and the amount of time estimated for an average respondent to respond: DEA estimates that 1,186 respondents, with 6,856 responses annually to this collection. DEA estimates that it takes 1 hour to complete the form.

(6) An estimate of the total public burden (in hours) associated with the collection: DEA estimates this collection has a public burden of 6,856 hours annually.

If additional information is required contact: Lynn Murray, Department Clearance Officer, Policy and Planning Staff, Justice Management Division, Department of Justice, Two Constitution Square, 145 N Street, NE., Suite 2E-502, Washington, DC 20530.

Dated: February 17, 2011.
Lynn Murray,
Department Clearance Officer, PRA, U.S. Department of Justice.

[FR Doc. 2011-4064 Filed 2-23-11; 8:45 am]

BILLING CODE 4410-09-P